DEPARTMENT OF ENERGY

National Energy Technology Laboratory; Notice of Availability of a Funding Opportunity Announcement

AGENCY: National Energy Technology Laboratory, Department of Energy (DOE).

ACTION: Notice of availability of a funding opportunity announcement.

SUMMARY: Notice is hereby given of the intent to issue Funding Opportunity Announcement No. DE-PS26-04NT42067 entitled “Pilot Scale Demonstrations of Cost Effective NOX Control for Coal-Fired Electric Utility Boilers in Response to Multi-Pollutant Legislation”. The Department of Energy (DOE), National Energy Technology Laboratory (NETL), through its Innovations for Existing Plants (IEP) Program is seeking applications for cost-shared research and development of advanced pulverized coal NOX control technologies at the pilot-scale and field testing-scale. The focus of these technologies is to reduce energy consumption and balance of plant issues and improve the associated capital and operating costs while burning a high volatile bituminous coal when compared to current state-of-the-art NOX control technologies. This research is to be innovative when compared to technologies that are currently being implemented and demonstrated at the commercial-scale. Additionally, the offered projects need to have successfully completed laboratory/bench-scale or prior pilot-scale testing and these results are required to clearly demonstrate the technology's capabilities and cost benefits. The applications should address the NOX research priorities identified by the joint Department of Energy, the Electric Power Research Institute, and the Coal Utilization Research Council Clean Coal Technology Roadmap: http://www.netl.doe.gov/coalpower/ccpi/pubs/CCT-Roadmap.pdf.

DATES: The funding opportunity announcement will be available on the “Industry Interactive Procurement System” (IIPS) Web page located at http://e-center.doe.gov on or about February 13, 2004. Applicants can obtain access to the funding opportunity announcement from the address above or through DOE/NETL's Web site at http://www.netl.doe.gov/business.

ADDRESSES: Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Mary Price, MS 921-107, U.S. Department of Energy, National Energy Technology Laboratory, P.O. Box 10940, 626 Cochrans Mill Road, E-mail Address: Mary.Price@netl.doe.gov, Telephone Number: 412-386-6179.

SUPPLEMENTARY INFORMATION: The funding opportunity announcement addresses the need for strategic research, development, and testing of efficient, cost-effective NOX control technologies, processes and concepts that are to be retrofitted to existing pulverized coal-fired electric utility boilers. This effort is to focus primarily on combustion systems capable of controlling NOX emissions to a level below 0.15 lbs/million Btu and advanced SCR concepts that achieve 90% NOX reductions based on inlet NOX levels of 0.10 to 0.40 lbs/million Btu. A levelized cost savings on a dollar-per-ton of NOX removed of at least 25% over the current state-of-the-art SCR should be demonstrated by these technologies. The applications should also address the impact of these advanced technologies on related issues such as unburned carbon, waterwall wastage, heat transfer surface fouling, sulfur trioxide generation, and mercury speciation and capture where appropriate.

In conducting this development effort, data is sought to: (1) Verify technology performance in terms of NOX reduction, (2) determine preliminary process/equipment and operating costs, (3) quantify potential balance-of-plant (BOP) impacts, (4) develop process monitoring/control tools to assist in management of NOX control equipment, and (5) measure and assess potential mercury control associated with multiple pollutant or co-control technology.

This announcement focuses on the following program areas of interest: (1) Advanced Combustion Concepts; (2) SCR Catalyst Developments; and (3) Enhanced Mercury Oxidation in the Combustor. Applications can only be submitted to one of these three areas of interest. Approximately $3,500,000 in total funding is expected to be available under this announcement and the DOE anticipates awarding between three and six cooperative agreements. A cost share commitment of at least 25 percent from non-federal sources is required for research and development projects.

Once released, the funding opportunity announcement will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The funding opportunity announcement will only be made available in IIPS, no hard (paper) copies of the funding opportunity announcement and related documents will be made available. Telephone requests, written requests, E-mail requests, or facsimile requests for a copy of the funding opportunity announcement will not be accepted and/or honored. Applications must be prepared and submitted in accordance with the instructions and forms contained in the announcement. The actual funding opportunity announcement document will allow for requests for explanation and/or interpretation.

Issued in Pittsburgh, PA on February 18, 2004.
Dale A. Siciliano,
Director, Acquisition and Assistance Division.

[FR Doc. 04-4582 Filed 3-1-04; 8:45 am]

BILLING CODE 6450-01-P